DEPARTMENT OF COMMERCE

International Trade Administration

[A-533-810]

Stainless Steel Bar From India: Preliminary Results and Intent To Rescind, in Part, of Antidumping Duty Administrative Review; 2023-2024

AGENCY: Enforcement and Compliance, International Trade Administration, Department of Commerce.

SUMMARY: The U.S. Department of Commerce (Commerce) is conducting an administrative review of the antidumping duty (AD) order on stainless steel bar from India. The period of review (POR) is February 1, 2023, through January 31, 2024. This review covers eight producers/exporters of the subject merchandise. We preliminarily determine that Atlas Stainless Corporation Private Limited (Atlas) to be collapsed with Astrabright LLP, Bahubali Steel Industries, Eurostahl Tech LLP, Venus Metal Corporation, Precision Metals, Venus Wire Industries Private Limited, Hindustan Inox Limited, and Sieves Manufactures (India) Private Limited, and sold subject merchandise at less than at normal value (NV) during the POR. We also preliminary determine that Aamor Inox Limited (Aamor) did not make sales of subject merchandise at less than NV during the POR. We invite interested parties to comment on these preliminary results.

DATES: Applicable June 11, 2025.

FOR FURTHER INFORMATION CONTACT: Hermes Pinilla or Jacob Keller, AD/CVD Operations, Office I, Enforcement and Compliance, International Trade Administration, U.S. Department of Commerce, 1401 Constitution Avenue NW, Washington, DC 20230; telephone: (202) 482-3477 or (202) 482-4889, respectively.

SUPPLEMENTARY INFORMATION:

Background

On February 21, 1995, Commerce published the AD order on stainless steel bar from India.¹ On February 2, 2024, Commerce published a notice of opportunity to request an administrative review of the Order.² On April 9, 2024, based on timely requests for administrative reviews, Commerce initiated an administrative review of the Order,³ and subsequently selected Aamor and Atlas as the mandatory respondents. On July 22, 2024, Commerce tolled certain deadlines by seven days.⁴ On October 21, 2024, Commerce extended the deadline for the preliminary results by 120 days.⁵ On December 9, 2024, Commerce tolled certain deadlines by 90 days.⁶ Thus, the deadline for the preliminary results of this administrative review is June 5, 2025.

¹ See Antidumping Duty Orders: Stainless Steel Bar from Brazil, India and Japan, 60 FR 9661 (February 21, 1995) (Order).

² See Antidumping or Countervailing Duty Order, Finding, or Suspended Investigation: Opportunity to Request Administrative Review and Join Annual Inquiry Service List, 89 FR 7366 (February 2, 2024).

³ See Initiation of Antidumping and Countervailing Duty Administrative Reviews, 89 FR 24780 (April 9, 2024).

⁴ See Memorandum, “Tolling of Deadlines for Antidumping and Countervailing Duty Proceedings,” dated July 22, 2024.

⁵ See Memorandum, Extension of Deadline for Preliminary Results,” dated October 21, 2024.

⁶ See Memorandum, “Tolling of Deadlines for Antidumping and Countervailing Duty Proceedings,” dated December 9, 2024.

Scope of the Order

The product covered by this Order is stainless steel bar from India. For a full description of the scope, see the Preliminary Decision Memorandum.⁷

⁷ See Memorandum, “Stainless Steel Bar from India: Decision Memorandum for Preliminary Results of Antidumping Duty Administrative Review; 2023-2024,” dated concurrently with, and hereby adopted by, this notice (Preliminary Decision Memorandum), at 2-3.

Methodology

Commerce is conducting this review in accordance with section 751(a)(1)(B) of the Tariff Act of 1930, as amended (the Act). Export price and constructed export price are calculated in accordance with section 772 of the Act. NV is calculated in accordance with section 773 of the Act.

For a full description of the methodology underlying our conclusions, see the Preliminary Decision Memorandum. A list of the topics discussed in the Preliminary Decision Memorandum is included as the appendix to this notice. The Preliminary Decision Memorandum is a public document and is made available to the public via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx. Intent to Rescind, In Part

Pursuant to 19 CFR 351.213(d)(3), it is Commerce's practice to rescind an administrative review of an AD order where it determines that there were no suspended entries of subject merchandise during the POR.⁸ Normally, upon completion of an administrative review, the suspended entries are liquidated at the AD assessment rate for the review period. Therefore, for an administrative review to be conducted, there must be a suspended entry that Commerce can instruct U.S. Customs and Border Protection (CBP) to liquidate at the calculated AD assessment rate for the review period.⁹

⁸ See, e.g., Certain Carbon and Alloy Steel Cut-to-Length Plate from the Federal Republic of Germany: Rescission of Antidumping Administrative Review; 2020-2021, 88 FR 4157 (January 24, 2023).

⁹ See, e.g., Shanghai Sunbeauty Trading Co. v. United States, 380 F. Supp. 3d 1328, 1335-36 (CIT 2019) (referring to section 741(a) of the Act, the U.S. Court of International Trade (CIT) held that: “While the statute does not explicitly require that an entry be suspended as a prerequisite for establishing entitlement to a review, it does explicitly state the determined rate will be used as the liquidated rate for the review entries. This result can only obtain if the liquidation of entries has been suspended”); see also Certain Frozen Fish Fillets from the Socialist Republic of Vietnam: Final Results of Antidumping Duty Administrative Review And Final Determination of No Shipments; 2018-2019, 86 Fr 36102 (July 8, 2021), and accompanying Issues and Decision Memorandum at Comment 4; and Solid Fertilizer Grade Ammonium Nitrate from the Russian Federation: Notice of Rescission of Antidumping Duty Administrative Review, 77 FR 65532 (October 29, 2012) (noting that “for an administrative review to be conducted, there must be a reviewable, suspended entry to be liquidated at the newly calculated assessment rate”).

As discussed in greater detail in the Preliminary Decision Memorandum, the POR entry totals reflected in the data query provided by CBP reflected no POR entries of subject merchandise from Bhansali Bright Bars and Chandan Steels Limited.¹⁰ In absence of any suspended entries of subject merchandise from these companies during the POR, Commerce hereby notifies all interested parties of its intent to rescind this administrative review with respect to these companies. Commerce is providing interested partis with an opportunity to submit comments on this preliminary decision, including factual information. Comments, including factual information from interested parties, are due to Commerce seven calendar days after the publication date of this notice. Rebuttal comments, including rebuttal factual information, are due seven calendar days thereafter. In accordance with 19 CFR 351.303, all submissions must be filed electronically in ACCESS.

¹⁰ See Memorandum, “U.S. Customs and Border Protection (CBP) Data Release,” dated April 22, 2024.

Rate for Non-Examined Companies

The statute and Commerce's regulations do not address the establishment of a rate to be applied to companies not selected for examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally an amount equal to the weighted average of the estimated weighted-average dumping margins established for exporters and producers individually investigated, excluding any zero or de minimis margins, and any margins determined entirely on the basis of facts available. Where the rates for individually investigated companies are all zero or de minimis, or determined entirely using facts otherwise available, section 735(c)(5)(B) of the Act instructs Commerce to rely on “any reasonable method to establish the estimated all-others rate for exporters and producers not individually investigated, including averaging the estimated weighted-average dumping margins determined for exporters and producers individually investigated.”

In this review, Commerce has preliminarily determined to apply adverse facts available (AFA) to Atlas, pursuant to section 776 of the Act, and assign it a 30.92 percent dumping margin, and calculated an estimated weighted-average dumping margin for Aamor of 0.00 percent. Thus, we are preliminarily applying to the non-examined companies, Ambica Steels Limited, Astrabite LLP, Laxcon Steels Limited, and its affiliates, Ocean Steels Private Limited, Metlax International Private Limited, Parvati Private Limited, and Mega Steels Private Limited, and Meltroll Engineering Pvt. Ltd, the rate of 15.46 percent, which is the simple average of the rate we preliminarily calculated for Aamor and the dumping margin we preliminarily assigned to Atlas, determined entirely under section 776 of the Act.¹¹

¹¹ See Baroque Timber Indus. (Zhonghan) Co. v. United States, 971 F. Supp. 2d 1333, 1341 (CIT 2014) (“it is not per se unreasonable for Commerce to use a simple average of zero and AFA rates to calculate the separate rate”);' see also, Solianus, Inc. v. United States, 391 F. Supp. 3d 1331, 1339 (CIT 2019).

¹² Collectively, these companies are known as Laxcon.

Preliminary Results of Review

We preliminarily determine that the following weighted-average dumping margins exist for the period February 1, 2023, through January 31, 2024:

Producer/exporter | Weighted-average dumping margin (percent)
Aamor Inox Limited | 0.00
Atlas Stainless Corporation Private Limited, Astrabright LLP., Bahubali Steel Industries, Eurostahl Tech LLP, Venus Metal Corporation, Venus Wire Industries Pvt. Ltd., Precision Metals, Hindustan Inox Ltd., and Sieves Manufacturers (India) Pvt. Ltd | 30.92
Review-Specific Rates for Non-Examined Companies
Ambica Steels Limited | 15.46
Astrabite LLP | 15.46
Laxcon Steels Limited, and its affiliates, Ocean Steels Private Limited, Metlax International Private Limited, Parvati Private Limited, and Mega Steels Private Limited ¹² | 15.46
Meltroll Engineering Pvt. Ltd | 15.46

Disclosure

We intend to disclose the calculations and analysis performed to interested parties within five days after public announcement for these preliminary results or if there is no public announcement, within five days after the date of publication of this notice in the Federal Register.¹³

¹³ See 19 CFR 351.224(b).

Public Comment

Interested parties will be provided an opportunity to submit written comments (i.e., case briefs) at a date to be determined by Commerce, pursuant to 19 CFR 351.309(c). Rebuttal briefs, limited to issues raised in the case briefs, may be filed not later than five days after the date for filing case briefs.¹⁴ Interested parties who submit case or rebuttal briefs in this proceeding must submit: (1) a table of contents listing each issue; and (2) a table of authorities.¹⁵ As provided under 19 CFR 351.309(c)(2) and (d)(2), in prior proceedings, we have encouraged interested parties to provide an executive summary of their brief that should be limited to five pages total, including footnotes. In this review, we instead request that interested parties provide, at the beginning of their briefs, a public executive summary for each issue raised in their briefs.¹⁶ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹⁷

¹⁴ See 19 CFR 351.309(d); see also Administrative Protective Order, Service, and Other Procedures in Antidumping and Countervailing Duty Proceedings, 88 FR 67069, 67077 (September 29, 2023).

¹⁵ See 19 CFR 351.309(c)(2) and (d)(2).

¹⁶ We use the term “issue” here to describe an argument that Commerce would normally address in a comment of the Issues and Decision Memorandum.

¹⁷ See Administrative Protective Order, Service, and Other Procedures in Antidumping and Countervailing Duty Proceedings; Final Rule, 88 FR 67069 (September 29, 2023).

Pursuant to 19 CFR 351.310(c), interested parties who wish to request a hearing must submit a written request to the Assistant Secretary for Enforcement and Compliance, filed electronically via ACCESS. Requests should contain: (1) the party's name, address, and telephone number; (2) the number of participants and whether any participant is a foreign national; and (3) a list of issues to be discussed. Issues raised in the hearing will be limited to those raised in the respective briefs. An electronically filed hearing request must be received successfully in its entirety by Commerce's electronic records system, ACCESS, by 5:00 p.m. Eastern Time within 30 days after the date of publication of this notice.

Final Results of Review

Unless otherwise extended, Commerce intends to issue the final results of this administrative review, including the results of its analysis of issues raised in written briefs, no later than 120 days after the date of publication of this notice in the Federal Register, pursuant to 751(a)(3)(A) of the Act and 19 CFR 351.213(h)(1).

Assessment Rates

Upon issuance of the final results, Commerce shall determine, and CBP shall assess, antidumping duties on all appropriate entries covered by this review.¹⁸ If a respondent's weighted-average dumping margin is above de minimis in the final results of this review, we will calculate an importer-specific assessment rate based on the ratio of the total amount of dumping calculated for each importer's examined sales and the total entered value of the sales in accordance with 19 CFR 351.212(b)(1).¹⁹ If a respondent's weighted-average dumping margin or an importer-specific assessment rate is zero or de minimis in the final results of review, we will instruct CBP to liquidate the appropriate entries without regard to antidumping duties in accordance with the Final Modification for Reviews.²⁰

¹⁸ See 19 CFR 351.212(b).

¹⁹ In these preliminary results, Commerce applied the assessment rate calculation method adopted in Antidumping Proceedings: Calculation of the Weighted-Average Dumping Margin and Assessment Rate in Certain Antidumping Duty Proceedings; Final Modification, 77 FR 8101 (February 14, 2012) (Final Modification for Reviews).

²⁰ Id., 77 FR at 8103; see also 19 CFR 351.106(c)(2).

For entries of subject merchandise during the POR produced by Aamor or Atlas for which they did not know their merchandise was destined for the United States, we will instruct CBP to liquidate unreviewed entries at the all-others rate if there is no rate for the intermediate company(ies) involved in the transaction.

The final results of this administrative review shall be the basis for the assessment of antidumping duties on entries of merchandise under review and for future deposits of estimated duties, where applicable.

We intend to issue assessment instructions to CBP no earlier than 35 days after the date of publication of the final results of this review in the Federal Register. If a timely summons is filed at the CIT, the assessment instructions will direct CBP not to liquidate relevant entries until the time for parties to file a request for a statutory injunction has expired (i.e., within 90 days of publication).

Cash Deposit Requirements

The following cash deposit requirements for estimated antidumping duties will be effective upon publication of the notice of final results of this review for all shipments of stainless steel bar from India entered, or withdrawn from warehouse, for consumption on or after the date of publication as provided by section 751(a)(2)(C) of the Act: (1) the cash deposit rate for the company listed above will be established in the final results of this review, except if the rate is less than 0.50 percent and, therefore, de minimis within the meaning of 19 CFR 351.106(c)(1), in which case the cash deposit rate will be zero; (2) for merchandise exported by companies not covered in this review but covered in a prior segment of this proceeding, the cash deposit rate will continue to be the company-specific rate published for the most recent period; (3) if the exporter is not a firm covered in this review, a prior review, or the original less-than-fair-value (LTFV) investigation but the producer is, the cash deposit rate will be the rate established for the most recently completed segment for the producer of the merchandise; (4) the cash deposit rate for all other producers or exporters will continue to be the 12.45 percent, the all-others rate established in the LTFV investigation.²¹ These cash deposit requirements, when imposed, shall remain in effect until further notice.

²¹ See Notice of Final Determination of Sales at Less Than Fair Value: Stainless Steel Bar from India, 59 FR 66915, 66921 (December 28, 1994).

Notification to Importers

This notice serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties

Commerce is issuing and publishing these preliminary results in accordance with sections 751(a)(1) and 777(i) of the Act, and 19 CFR 351.221(b)(4).

Dated: June 5, 2025.
Christopher Abbott,
Deputy Assistant Secretary for Policy and Negotiations, performing the non-exclusive functions and duties of the Assistant Secretary for Enforcement and Compliance.

Appendix

List of Topics Discussed in the Preliminary Decision Memorandum

I. Summary

II. Background

III. Scope of the Order

IV. Intent to Rescind Review, In Part

V. Affiliation and Single Entity Treatment

VI. Application of Facts Available and Use of Adverse Inference

VII. Rate for Non-Examined Companies

VIII. Discussion of the Methodology

IX. Currency Conversion

X. Recommendation

[FR Doc. 2025-10639 Filed 6-10-25; 8:45 am]

BILLING CODE 3510-DS-P